DEPARTMENT OF COMMERCE

National Oceanic and Atmospheric Administration

[RTID 0648-XA543]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Atlantic herring is now overfished, and Gulf of Maine thorny skate and Pacific sardine are both still overfished. NMFS, on behalf of the Secretary, notifies the appropriate regional fishery management council (Council) whenever it determines that overfishing is occurring, a stock is in an overfished condition, or a stock is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish in the Federal Register, whenever it determines that a stock or stock complex is subject to overfishing, overfished, or approaching an overfished condition.

NMFS has determined that Atlantic herring is now overfished and Gulf of Maine thorny skate is still overfished. The Atlantic herring determination is based on the most recent assessment, completed in 2020, using data through 2019, which indicates that this stock is overfished because the spawning stock biomass is below the threshold. The thorny skate determination is based on the most recent stock status update, completed in 2020, using data through 2019, which indicates that this stock is still overfished because the 3-year average biomass index remains below the threshold. NMFS has notified the New England Fishery Management Council of the requirement to rebuild these stocks.

NMFS has determined that Pacific sardine is still overfished. This determination is based on the most recent assessment, completed in 2020, using data through 2019, which indicates that this stock is still overfished because the biomass remains below the threshold. NMFS has notified the Pacific Fishery Management Council of the requirement to rebuild this stock.

Dated: October 29, 2020.
Jennifer M. Wallace,
Acting Director, Office of Sustainable Fisheries, National Marine Fisheries Service.

[FR Doc. 2020-24385 Filed 11-3-20; 8:45 am]

BILLING CODE 3510-22-P